DEPARTMENT OF TRANSPORTATION

Meeting and Webinar on Integrated Dynamic Transit Operations; Notice of Public Meeting

AGENCY: Research and Innovative Technology Administration, U.S. Department of Transportation.

ACTION: Notice.

The U.S. Department of Transportation (USDOT) Intelligent Transportation System Joint Program Office (ITS JPO) will host a free public meeting and webinar to obtain stakeholder input on concepts, opportunities, and needs for the Integrated Dynamic Transit Operations (IDTO) operational concept on January 26, 2012 from 1:30-4:30 p.m. and January 27, 2012 from 8:30 a.m. to 12:30 p.m. (EST) at the Washington Marriott Wardman Park, Washington Room, 2660 Woodley Road NW., Washington, DC 20008.

Persons planning to attend any part of the public meeting or participate in the three-hour webinar should register by January 19, 2012 using the following link: http://www.itsa.org/component/forme/?fid=6. For additional questions, please contact Adam Hopps at ahopps@itsa.org or (202) 680-0091.

The IDTO public meeting will bring stakeholders together as part of an interactive forum to discuss opportunities, needs, transformative goals, and performance measures. Outcomes from this workshop will provide an important foundation to the overall vision and an operational concept for the IDTO. The first half of the public meeting will be delivered via webcast for those participants who are not able to participate in person. An electronic feedback form will be made available to allow participants to provide additional input. The meeting will follow the Transportation Research Board annual meeting.

Background

The overarching goal of the Transit Connected Vehicle for Mobility program is to improve public transportation by increasing transit productivity, efficiency, and accessibility; mitigating congestion in an integrated transportation environment; and providing travelers better transportation information and transit services. Transit-oriented Connected Vehicle for Mobility applications support dynamic system operations and management, enable a convenient and quality travel experience, and provide an information-rich environment to meet the needs of travelers and system operators across all modes.

Issued in Washington, DC on the 4th day of January 2012.
John Augustine,
Managing Director, ITS Joint Program Office.

[FR Doc. 2012-313 Filed 1-10-12; 8:45 am]

BILLING CODE 4910-HY-P